SMALL BUSINESS ADMINISTRATION

[Declaration of Disaster #3633]

State of West Virginia (Amendment #3)

In accordance with a notice received from the Department of Homeland Security—Federal Emergency Management Agency—effective September 29, 2004, the above numbered declaration is hereby amended to include Mingo and Wayne Counties as disaster areas due to damages caused by severe storms, flooding and landslides occurring on September 16, 2004, and continuing through September 27, 2004.

In addition, applications for economic injury loans from small businesses located in the contiguous counties of McDowell and Wyoming in the State of West Virginia; Boyd, Lawrence, Martin, and Pike in the Commonwealth of Kentucky; and Buchanan County in the Commonwealth of Virginia may be filed until the specified date at the previously designated location. All other counties contiguous to the above named primary counties have previously been declared.

The economic injury number assigned to Kentucky is 9AG900.

All other information remains the same, i.e., the deadline for filing applications for physical damage is November 19, 2004, and for economic injury the deadline is June 20, 2005.

(Catalog of Federal Domestic Assistance Program Nos. 59002 and 59008).

Dated: October 20, 2004.
Herbert L. Mitchell,
Associate Administrator for Disaster Assistance.

[FR Doc. 04-23960 Filed 10-25-04; 8:45 am]

BILLING CODE 8025-01-P